DEPARTMENT OF COMMERCE

National Oceanic and Atmospheric Administration

RIN 0648-XE511

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will take place on Monday, April 4 through Thursday, April 7, 2016, starting at 8:30 a.m. daily.

ADDRESSES: The meeting will be held at the Doubletree by Hilton hotel, 6505 N. Interstate Highway 35 North, Austin, TX 78752; telephone: (512) 454-3737.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, April 4, 2016; 8:30 a.m.-5 p.m.

The Gulf Council will begin with updates and presentations from management committees. The Joint Administrative Policy & Budget Management Committee will review the 2014 No-cost extension, 2015 & 2016 Budgets, and 2016 Proposed Activities. The Data Collection Committee will review the Electronic Reporting Program Flowchart; give an update on the Commercial Electronic Reporting Pilot Program; and discuss Final Action—South Atlantic's Amendment: Modifications to Charter Vessel and Headboat Reporting Requirements. The Shrimp Management Committee will discuss the Biological Review of the Texas Closure; review the Updated Stock Assessments for Brown, White and Pink shrimp; receive a summary from the Shrimp Advisory Panel (AP) meeting; review of Options Paper for Shrimp Amendment 17B; and receive a summary from the Shrimp Scientific and Statistical Committee (SSC) meeting. After lunch, the Mackerel Management Committee will discuss Final Action on Coastal Migratory Pelagics (CMP) Amendment 26: Changes in Allocations, Stock Boundaries and Sale Provisions for Gulf of Mexico and Atlantic Migratory Groups of King Mackerel; receive summary of Public Hearing Comments and Written Public Comments; and a summary from the Law Enforcement Advisory Panel. The Law Enforcement Committee will receive a summary from the Law Enforcement Technical Committee; and select the recipient for Officer of the Year award.

Tuesday, April 5, 2016; 8:30 a.m.-5 p.m.

The Reef Fish Management Committee will receive an update on 2015 Recreational Red Snapper Landings and Recreational Season Projections for 2016; take final action on Framework Action to Modify Red Grouper Annual Catch Limits; review Options Paper for Amendment 46—Modify Gray Triggerfish Rebuilding Plan and Draft Amendment 41—Red Snapper Management for Federally Permitted Charter Vessels. The committee will receive a summary report from the Ad Hoc Red Snapper Charter For-Hire Advisory Panel (AP) meeting; review of Draft Amendment 42—Federal Reef Fish Headboat Management, Public Hearing Draft Amendment 43—Hogfish Stock Definition, Status Determination Criteria (SDC), Annual Catch Limits (ACL) and Size Limit; review Draft Amendment 45—Extend or Eliminate the Red Snapper Sector Separation Sunset Provision; and review preliminary options for Mechanism to Allow Recreational Red Snapper Season to Re-open if ACL is not exceeded.

Wednesday, April 6, 2016; 8:30 a.m.-5 p.m.

The Reef Fish Management Committee will discuss Final Action on Framework Action to Modify Commercial Gear Requirements and Recreational/Commercial Fishing Year for Yellowtail Snapper; and any other business. The Gulf SEDAR Committee will review and provide updates on SEDAR Schedule Progress and deliverables; and receive a SEDAR Steering Committee update.

The Full Council will convene approximately mid-morning (10:30 a.m.) with a Call to Order, Announcements and Introductions; Adoption of Agenda and Approval of Minutes; and will review Exempt Fishing Permit (EFPs) Applications, if any. The Council will receive presentations on Proposed Rule Standardized Bycatch Reporting Methodology, Science Update: How the Oil Spill Impacted the Fish Species We Care About, Mid-Atlantic Fishery Management Council's Ecosystem Approach to Fisheries Management, and NMFS-SERO Landing Summaries.

After lunch, the Council will receive public testimony from 1:45 p.m. until 5 p.m. on Agenda Testimony Items: Final Action—Coastal Migratory Pelagics Amendment 26: Changes in Allocations, Stock Boundaries and Sale Provisions for Gulf of Mexico and Atlantic Migratory Groups of King Mackerel; Final Action—Framework Action to Modify Red Grouper Annual Catch Limits; Final Action—Framework Action to Modify Commercial Gear Requirements and Recreational/Commercial Fishing Year for Yellowtail Snapper; Final Action—South Atlantic Amendment: Modifications to Charter Vessel and Headboat Reporting Requirements and hold an open public testimony period regarding any other fishery issues or concern. Anyone wishing to speak during public comment should sign in at the registration station located at the entrance to the meeting room.

Thursday, April 7, 2016; 8:30 a.m.-3:30 p.m.

The Council will review and discuss committee reports as follows: Joint Administrative Policy/Budget, Law Enforcement, Data Collection, Shrimp, Mackerel, Gulf SEDAR, and Reef Fish Management Committees; and, vote on Exempted Fishing Permits (EFP) applications, if any. Lastly, the Council will discuss other business items, if any.

Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2016-04” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: March 15, 2016.
Jeffrey N. Lonergan,
Acting Deputy Director, Office of Sustainable Fisheries, National Marine Fisheries Service.

[FR Doc. 2016-06218 Filed 3-18-16; 8:45 am]

BILLING CODE 3510-22-P